DEPARTMENT OF COMMERCE

National Oceanic and Atmospheric Administration

Notice of Availability of Progress Report: The Coral Reef Conservation Grants Program

AGENCY: Department of Commerce.

ACTION: Notice of availability.

SUMMARY: The National Oceanic and Atmospheric Administration (NOAA) announces the availability of Progress Report: The Coral Reef Conservation Grant Program (Report). The Report was published in response to the Coral Reef Conservation Act of 2000 (Act, 16 U.S.C. 6401 et seq., Pub. L. 106-562), which directs NOAA's Administrator to provide a report that documents the effectiveness of its grants program (Program) no later than three years after enactment of the Act.

The Report provides an overview of the Program since its establishment in 2002. It also highlights the achievements of the Program in each of six substantive topic areas, as well as provides specific information on each of the 83 grants awarded in fiscal years 2002 and 2003.

FOR FURTHER INFORMATION CONTACT: To request a copy of the Report please contact the NOAA Coral Reef Conservation Program by e-mail at coralreef@noaa.gov, by fax at (301) 713-4389, or by mail at 1305 East West Highway, NOS/ORR 10201, Silver Spring, MD 20910. The Report is also available electronically on the NOAA Coral Reef Information System Web site (http://www.coris.noaa.gov).

SUPPLEMENTARY INFORMATION: The Coral Reef Conservation Act of 2000 (Act, 16 U.S.C. 6401 et seq., Pub. L. 106-562) authorizes the DOC, through the NOAA Administrator and subject to the availability of funds, to make matching grants of Federal financial assistance to support projects for the conservation of coral reefs. The Act also directs NOAA's Administrator to provide a report that documents the effectiveness of its grant program (Program) no later than three years after enactment of the Act. Progress Report: The Coral Reef Conservation Grant Program is NOAA's response to this requirement.

This report provides an overview of the Program since its establishment in 2002, including a description of the process and results of the Program's development. It also highlights the achievements of the Program in each of the six topic areas, and provides specific information on each of the 83 grants awarded in fiscal years 2002 and 2003. This includes a State-by-State listing of Federal and non-Federal matching funds, and a detailed description of each activity, its outcomes, and measurements of performance. The report also contains summary tables that organize grant information by geographic and substantive topic area. Finally, the report contains an initial assessment of the effectiveness of the Program.

Dated: January 14, 2004.
Richard W. Spinrad,
Assistant Administrator, Ocean Services and Coastal Zone Management, National Oceanic and Atmospheric Administration.

[FR Doc. 04-1166 Filed 1-20-04; 8:45 am]

BILLING CODE 3510-JE-P